NUCLEAR REGULATORY COMMISSION

10 CFR Part 72

[NRC-2018-0212]

RIN 3150-AK16

List of Approved Spent Fuel Storage Casks: TN Americas LLC, Standardized NUHOMS® System, Certificate of Compliance No. 1004, Renewed Amendment No. 15

AGENCY: Nuclear Regulatory Commission.

ACTION: Direct final rule; confirmation of effective date.

SUMMARY: The U.S. Nuclear Regulatory Commission (NRC) is confirming the effective date of January 22, 2019, for the direct final rule that was published in the Federal Register on November 7, 2018. This direct final rule amended the NRC's spent fuel storage regulations by revising the “List of approved spent fuel storage casks” to include Renewed Amendment No. 15 to Certificate of Compliance No. 1004 for the TN Americas LLC Standardized NUHOMS® Horizontal Modular Storage System (NUHOMS® System). Because this amendment is subsequent to the renewal of the TN Americas LLC Standardized NUHOMS® Certificate of Compliance No. 1004 system and, therefore, subject to the Aging Management Program requirements of the renewed certificate, it is referred to as “Renewed Amendment No. 15.”

DATES: Effective Date: The effective date of January 22, 2019, for the direct final rule published November 7, 2018 (83 FR 55601), is confirmed.

ADDRESSES: Please refer to Docket ID NRC-2018-0212 when contacting the NRC about the availability of information for this action. You may obtain publicly-available information related to this action by any of the following methods:

• Federal Rulemaking Website: Go to http://www.regulations.gov and search for Docket ID NRC-2018-0212. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed changes to the technical specifications, and preliminary safety evaluation report are available in ADAMS under Accession No. ML18228A529. The final amendment to the certificate, final changes to the technical specifications, and final safety evaluation report can also be viewed in ADAMS under Accession No. ML18347B333.

• NRC's PDR: You may examine and purchase copies of public documents at the NRC's PDR, Room O1-F21, One White Flint North, 11555 Rockville Pike, Rockville, Maryland 20852.

FOR FURTHER INFORMATION CONTACT: Christian Jacobs, Office of Nuclear Material Safety and Safeguards; telephone: 301-415-6825; email: Christian.Jacobs@nrc.gov or Edward M. Lohr, Office of Nuclear Material Safety and Safeguards; telephone: 301-415-0253; email: Edward.Lohr@nrc.gov. Both are staff of the U.S. Nuclear Regulatory Commission, Washington, DC 20555-0001.

SUPPLEMENTARY INFORMATION: On November 7, 2018 (83 FR 55601), the NRC published a direct final rule amending its regulations in part 72 of title 10 of the Code of Federal Regulations by revising the “List of approved spent fuel storage casks” to include Renewed Amendment No. 15 to Certificate of Compliance No. 1004 for the TN Americas LLC Standardized NUHOMS® Horizontal Modular Storage System. Renewed Amendment No. 15 revised the technical specifications of the certificate of compliance to: Unify and standardize fuel qualification tables; revise existing and add new heat load zoning configurations; increase the allowable maximum assembly average burnup; allow loading of damaged fuel assemblies under certain conditions; expand the definition of the poison rod assemblies to include rod cluster control assembly materials; allow other zirconium alloy cladding materials; add model OS197 as an authorized transfer cask; add the description for the solar shield in the updated final safety analysis report; and add flexibility to general licensees in verifying compliance regarding the storage pad location and the soil-structure interaction. Additionally, the rulemaking made clarifications to rule text related to the certificate of compliance by removing redundant language.

In the direct final rule, the NRC stated that if no significant adverse comments were received, the direct final rule would become effective on January 22, 2019. As described more fully in the direct final rule, a significant adverse comment is a comment where the commenter explains why the rule would be inappropriate, including challenges to the rule's underlying premise or approach, or would be ineffective or unacceptable without a change.

The NRC received two comments and has determined that they are not significant adverse comments. One comment agreed with the proposed changes to the regulations. The second comment concerned transportation of nuclear waste fuel to another country. As this rulemaking only addressed the changes to the technical specifications for dry shielded canisters used to store nuclear waste on-site, the NRC determined this comment to be out of scope. Because no significant adverse comments were received, the direct final rule will become effective as scheduled.

Dated at Rockville, Maryland, this 18th day of December, 2018.
For the Nuclear Regulatory Commission.
Cindy K. Bladey,
Chief, Regulatory Analysis and Rulemaking Support Branch, Division of Rulemaking, Office of Nuclear Material Safety and Safeguards.

[FR Doc. 2018-27810 Filed 12-21-18; 8:45 am]

BILLING CODE 7590-01-P